DEPARTMENT OF THE INTERIOR

Bureau of Reclamation

Freeport Regional Water Project, Sacramento, CA

AGENCY: Bureau of Reclamation, Interior.

ACTION: Extension of comment period for review of Draft Environmental Impact Statement/Environmental Impact Report (EIS/EIR).

SUMMARY: The Bureau of Reclamation (Reclamation), the lead Federal agency; the United States Army Corps of Engineers, a cooperating Federal agency; and the Freeport Regional Water Authority (FRWA), the State lead agency, are extending the review period for the Draft EIS/EIR to December 15, 2003. The notice of availability of the Draft EIS/EIR and notice of public workshop and notice of public hearing was published in the Federal Register on August 8, 2003 (68 FR 47363). The public review period was originally to end on October 7, 2003.

DATES: Submit comments on the Draft EIS/EIR on or before December 15, 2003.

ADDRESSES: Written comments on the Draft EIS/EIR are to be addressed to Mr. Kurt Kroner, Freeport Regional Water Project, Freeport Regional Water Authority, 1510 J Street #140, Sacramento, CA 95814, Fax: 916-444-2137.

FOR FURTHER INFORMATION CONTACT: Mr. Rob Schroeder, Reclamation, at 916-989-7274, TDD 916-989-7285, or e-mail: rschroeder@mp.usbr.gov; or Mr. Kurt Kroner, at 916-326-5489, or e-mail: k.kroner@frwa.com.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 7, 2003.
Frank Michny,
Regional Environmental Officer, Mid-Pacific Region.

[FR Doc. 03-27154 Filed 10-27-03; 8:45 am]

BILLING CODE 4310-MN-P